DEPARTMENT OF COMMERCE

Submission for OMB Review; Comment Request

The Department of Commerce will submit to the Office of Management and Budget (OMB) for clearance the following proposal for collection of information under the provisions of the Paperwork Reduction Act.

Agency: U.S. Census Bureau.

Title: 2020 Census.

The clearance requested from OMB is for all data collection operations in the 2020 Census. The initial Federal Register Notice described the 2020 Census in full. Approval for the 2020 Census is being sought from OMB in phases. This Federal Register Notice will provide details about the 2020 Census Address Canvassing operation only. This is the operation that creates the address list for the census, which precedes census enumeration data collection. The remaining operations scoped for the 2020 Census, as listed below, will be described in detail in a future Federal Register Notice for an additional 30-day comment period, and the full census description will be considered as a substantive change to the approved OMB materials.

OMB Control Number: 0607-XXXX.

Form Number(s): D-CN(E/S) (Confidentiality Notice for Address Canvassing)

Type of Request: New Collection.

Number of Respondents: 17,365,407 for Address Canvassing; 180,955,761 for all operations in 2020 Census.

Average Hours per Response: 5 minutes for Address Canvassing; 10 minutes for census enumeration.

Burden Hours: 1,447,117 for Address Canvassing; 26,533,537 for Census.

2020 Census
Operation or category | Estimated number of respondents | Estimated time per response | Total burden hours
Address Canvassing | 15,786,734 | 5 minutes | 1,315,561
Address Canvassing Listing Quality Control | 1,578,673 | 5 minutes | 131,556
Total for Address Canvassing * | 17,365,407 |  | 1,447,117
Geographic Areas Focused on Self-Response (this includes Mailout and Update Leave):
Internet/Telephone/Paper | 80,700,000 | 10 minutes | 13,450,000
Update Leave | 11,900,000 | 5 minutes | 991,667
Update Leave Quality Control | 1,190,000 | 5 minutes | 99,167
Nonresponse Followup | 52,700,000 | 10 minutes | 8,783,333
Reinterview, Coverage, and Quality | 7,400,000 | various | 725,304
Self-Response Areas Subtotal | 153,890,000 |  | 24,049,471
Geographic Area Focused on Update Enumerate:
Update Enumerate Production | 506,000 | 12 minutes | 101,200
Reinterview and Quality | 75,900 | various | 8,434
Update Enumerate Subtotal | 581,900 |  | 109,634
Group Quarters:
Group Quarters Advance Contact and Enumeration | 8,311,300 | various | 720,934
Group Quarters Quality | 8,500 | 5 minutes | 708
Group Quarters Subtotal | 8,319,800 |  | 721,642
Enumeration at Transitory Locations | 650,000 | 10 minutes | 108,333
Federally Affiliated Count Overseas | 82 | 5 minutes | 7
Island Areas Censuses—Housing Units | 138,281 | 40 minutes | 92,187
Island Areas Censuses—Group Quarters | 10,291 | 30 minutes | 5,146
Totals | 180,955,761 |  | 26,533,537
* Address Canvassing projected counts are more detailed than the projections that inform later 2020 Census operations.

Overview of 2020 Census Operations

Below is a summary of the needs of uses of the 2020 Census, followed by a more detailed overview of data collection operations. As noted earlier, this notice is focused solely on Address Canvassing operations and solicits comments on these operations alone. The geographic areas discussed in this notice refer only to the 50 states, the District of Columbia, and Puerto Rico, unless otherwise noted.

Needs and Uses

Article 1, Section 2 of the United States Constitution mandates that the U.S. House of Representatives be reapportioned every ten years by conducting a national census of all residents. In addition to the reapportionment of the U.S. Congress, Census data are used to draw legislative district boundaries within states. Census data also are used by numerous agencies to determine funding allocations for the distribution of an estimated $675 billion of federal funds each year.

The Census Bureau plans to conduct the most automated, modern, and dynamic decennial census in history. The 2020 Census includes design changes in four key areas, discussed below:

(1) New methodologies to conduct the Address Canvassing operation.

(2) Innovative ways of optimizing self-response.

(3) The use of administrative records and third-party data to reduce the Nonresponse Followup (NRFU) operation workload.

(4) The use of technology to reduce the manual effort and improve the productivity of field operations, while decreasing the amount of physical space required to perform the field operations.

(1) Reengineering Address Canvassing

An accurate address list is the cornerstone of a successful census. In order to manage the work for decennial census, the Census Bureau uses the address and physical location of each place where someone is, or could be, living. The Census Bureau maintains this address list and spatial data for the United States and Puerto Rico in its Master Address File (MAF)/Topologically Integrated Geographic Encoding and Referencing (TIGER) System database.

This database was created using the address files from the 1990 Census and has been subsequently and regularly updated using:

• Information collected from decennial census operation updates, including address and spatial updates.

• The Delivery Sequence File of addresses from the United States Postal Service (USPS).

• Input from tribal, state, and local governments and third parties, including address and boundary updates from various programs conducted over the decade, such as the Local Update of Census Addresses operation.

• Information collected in other Census Bureau programs, such as the American Community Survey.

The purpose of Address Canvassing is (1) to deliver a complete and accurate address list and spatial database for enumeration and tabulation, and (2) to determine the type and address characteristics for each living quarter. Prior to a field Address Canvassing data collection, the Census Bureau will delineate the entire land area of the United States, Puerto Rico, and Island Areas into Type of Enumeration Areas (TEAs). Most stateside United States living quarters will be delineated into the self-response area, where the census address list will be created before the census, census materials will be provided in the mail, and self-response modes will be supported and promoted. Other areas will be designated for Update Leave, Update Enumerate (including Remote Alaska), Military Enumeration, or Island Areas Enumeration.

For the 2020 Census there will be a full Address Canvassing of the country that will consist of In-Office Address Canvassing complemented with In-Field Address Canvassing. In-Office Address Canvassing is the process of using empirical geographic evidence (e.g., imagery, comparison of the Census Bureau's address list to address lists provided by the United States Postal Service and governmental units that partner with the Census Bureau) to assess the current address list and make changes where necessary. This component also detects and captures areas of change from high quality administrative records and third-party data. Advancements in technology have enabled continual address and spatial updates to occur throughout the decade as part of the In-Office Address Canvassing effort. Since 2015, satellite imagery has been used for the identification of areas where there are changes in living quarters. Where the necessary updates can be captured from electronic sources and are deemed to be sufficiently accurate, In-Office Address Canvassing will complete the update process prior to the census. The remaining blocks will become eligible to be sent to In-Field Address Canvassing for updating on the ground by field staff.

(2) Optimizing Self-Response

The goal of this innovation area is to make it as easy and efficient as possible for people to respond to the 2020 Census by offering new response options through the internet and telephone, in addition to the traditional mailback paper questionnaire option. Self-response reduces the need to conduct in-person follow-up operations to complete the enumeration, by far the most expensive method of data collection. To that end, the Census Bureau will motivate people to respond, as well as make it easy for people to respond, from any location at any time, even if they don't have the unique identifier for their address provided to them by the Census Bureau.

The importance of responding to the 2020 Census will be communicated in a variety of ways, including through mailings, questionnaire delivery, advertising, and partnership efforts. In particular, the Integrated Partnership and Communications operation is responsible for communicating the importance of participating in the 2020 Census.

Internet response represents a substantial innovation for the Census Bureau. The internet was not a response option in the 2010 Census. The internet response option has been included in multiple tests leading up to the 2020 Census: the 2014 Census Test; all three census tests performed in 2015; the 2016 Census Test; the 2017 Census Test; and the 2018 End-to-End Census Test. It has also been used in the American Community Survey since 2013.

(3) Utilizing Administrative Records and Third-Party Data

For the 2020 Census, “administrative records” and “third-party data” are terms used to describe microdata records contained in files collected and maintained by Federal, state, and local government agencies (“administrative records”) and commercial entities (“third-party data”) for administering programs and providing services. For many decades, the Census Bureau has successfully and securely used administrative records and third-party data for statistical purposes. For the 2020 Census, the Census Bureau intends to use administrative records from both internal sources, such as data from prior decennial censuses and the American Community Survey, and from a range of other Federal agencies, including the Internal Revenue Service (IRS), the Social Security Administration, the Centers for Medicare and Medicaid Services, the Department of Housing and Urban Development, the Indian Health Service, the Selective Service, and the U.S. Postal Service. The Census Bureau is also working to acquire state government administrative records from enrollment in Federal block grant programs, such as the U.S. Department of Agriculture's Supplemental Nutrition Assistance Program and the Special Supplemental Nutrition Program for Women, Infants, and Children. Finally, the Census Bureau is also utilizing commercial third-party data from organizations such as CoreLogic and the Veterans Service Group of Illinois.

Throughout the decade, the Census Bureau continuously conducted analyses and assessments to verify that the proposed uses of administrative records and third-party data sources in the 2020 Census were appropriate in each instance. Based on this research, testing, and analyses, the Census Bureau announced its plans in November 2015 to utilize administrative records and third-party data in the 2020 Census. The 2020 Census Operational Plan calls for employing this information for the following purposes:

I. Consistent with previous decennial censuses, the Census Bureau will utilize administrative records from federal and state government agencies and third-party data to refine contact strategies and build and update the residential address list.

II. Also consistent with previous decennial censuses, the Census Bureau will utilize federal and state administrative records to edit or impute invalid, inconsistent, or missing responses.

III. The new use of administrative records for the 2020 Census is to use data exclusively from federal administrative records to improve the accuracy and efficiency of the NRFU operation by:

a. removing vacant housing units and nonresidential addresses from the NRFU workload.

b. enumerating households that do not self-respond and whom we were unable to contact after six mailings and one in-person field visit.

For each of the purposes listed in items II, IIIa, and IIIb, the Census Bureau will use or plans to use administrative data only when it can confirm empirically across multiple sources that the data are consistent, of high quality, and can be accurately applied to the addresses and households in question. The Census Bureau plans to enumerate households utilizing administrative records only from Federal government agencies, such as the IRS. Use of administrative records for nonresponding addresses will be evaluated under a strict set of Census Bureau rules throughout the process to ensure completeness and accuracy.

Based on the research and tests conducted, the Census Bureau estimates that under the current operational plan, Federal administrative records will be used to enumerate up to 6.5 million households of the projected total of approximately 60 million addresses that are expected to be in the NRFU workload for the 2020 Census. These 6.5 million households represent less than five percent of the approximately 145 million addresses in the Census master address file. Where the Census Bureau does not have confidence in the data, such as when the data are inconsistent or missing in the Federal administrative records, the household will remain in the NRFU workload to be enumerated in person.

(4) Reengineering Field Operations

The final innovation area, “Reengineering Field Operations,” has a goal of using technology to manage the 2020 Census fieldwork efficiently and effectively, and as a result, reduce the staffing, infrastructure, and brick and mortar footprint for the 2020 Census. The Census Bureau plans to provide most listers and enumerators with the capability to work completely remotely and perform all administrative and data collection tasks directly from a mobile device.

Supporting Documents About the 2020 Census Design and the 2020 Census Objectives

Multiple Census Bureau publications provide background on the plans for the 2020 Census. The 2020 Census Operational Plan v3.0, which was published in September 2017, describes each of the 35 operations scoped and defined for the census. Every task performed for the 2020 Census must be assigned to one of the 35 operations. The Operational Plan also summarizes the major findings of the census tests performed this decade. Moreover, this document shows the planned design of the 2020 Census as of September 2017 and identifies design decisions made, as well as remaining decisions to be made using census test results. Key design components for the 2020 Census for every operation are discussed in Chapter 5 of the 2020 Census Operational Plan.

Type of Enumeration Areas

Prior to the census, it is necessary to delineate all geographic areas into Type of Enumeration Areas (TEAs). These TEAs describe what methodology will be used for census material delivery and household enumeration in order to use the most cost-effective enumeration approach for achieving maximum accuracy and completeness. TEAs also describe what methodology will be used for updating the address frame. For the United States and Puerto Rico, TEAs are delineated at the block level based on the address and spatial data in the MAF/TIGER database.

The MAF/TIGER does not contain data for the Island Areas, so a separate TEA is designated for these areas. The TEAs designated for the 2020 Census are:

* TEA 1 = Self-Response.

* TEA 2 = Update Enumerate.

* TEA 3 = Island Areas.

* TEA 4 = Remote Alaska.

* TEA 5 = Military.

* TEA 6 = Update Leave.

The most common enumeration method by percentage of households is self-response (TEA 1), where materials will be delivered to each address through the mail, and self-response will be supported and promoted. After the initial self-response phase, nonresponding households will be enumerated in the NRFU operation. Update Enumerate uses the methodology of updating the address list and attempting household enumeration at the same time. This will be used for a very small portion of the addresses in country, such as those with access problems or minimal mail service. The Island Areas are not included in MAF/TIGER. For these areas, the address list will be created and enumeration will be attempted at the same time. Remote Alaska uses the Update Enumerate methodology but in remote areas of Alaska that require a different schedule for enumeration. Military areas require special procedures due to security restrictions. Update Leave is an update of the address list at the same time that a questionnaire is left at each individual housing unit and the enumeration data is expected to be returned or submitted by a respondent. Puerto Rico is designated as entirely Update Leave (except for military locations). Operations that will contribute to the respondent experience of the 2020 Census will be described in detail, as shown below, but only the Address Canvassing operation will be described within this clearance request. The 2020 Census Operational Plan and Detailed Operational Plans, available at www.census.gov, provide design details about the remaining operations, and the remaining operations will be described in future documents related to this OMB clearance.

A. Content and Forms Design

The Content and Forms Design operation will be described in more detail in subsequent versions of this document.

B. Language Services

The Language Services operation will be described in more detail in subsequent versions of this document.

C. Address Canvassing

Address Canvassing, as described above, consists of two major components: In-Office Address Canvassing and In-Field Address Canvassing. In-Office Address Canvassing is the process of using empirical geographic evidence (e.g., imagery, comparison of the Census Bureau's address list to partner-provided lists) to assess the current address list and make changes where necessary. This component detects and captures areas of change from high quality administrative records and third-party data. Advancements in technology have enabled continual address and spatial updates to occur throughout the decade as part of the In-Office Address Canvassing effort.

Areas not resolved by In-Office Address Canvassing become the universe of geographic areas worked during In-Field Address Canvassing. Only the In-Field component of Address Canvassing involves in person collection of information from residents at their living quarters.

For In-Field Address Canvassing, an extract of addresses from the MAF is created, and this address list is verified and updated in the field, as needed. Updates can include adding units missing from the address list and removing nonexistent or nonresidential units from the list. In addition, living quarters are classified as housing units or group quarters. Group quarters are living quarters where people who are typically unrelated have group living arrangements and frequently are receiving some type of service. College/university student housing and nursing/skilled-nursing facilities are examples of group quarters. Transitory locations include recreational vehicle parks, campgrounds, racetracks, circuses, carnivals, marinas, hotels, and motels. People residing at transitory locations during the census are recorded as living in housing units located at transitory locations.

During In-Field Address Canvassing, listers knock on doors at every structure in the assignment in an attempt to locate living quarters and classify each living quarter as a housing unit, group quarter, or transitory location. If someone answers, the lister will provide a Confidentiality Notice and ask about the address in order to verify or update the information, as appropriate. The listers will then ask if there are any additional living quarters in the structure or on the property. If there are additional living quarters, the listers will collect/update that information, as appropriate. In addition, there will be a check on the quality of the address listing work on approximately 10 percent of the address listing workload.

The results of Address Canvassing are processed with MAF/TIGER and then used as input into the creation of the census address list for enumeration. This address list in turn, is used in conjunction with the TEA delineation to determine which materials should be printed for use in the operation(s) designated for each area of the country.

D. Forms Printing and Distribution

The Forms Printing and Distribution operation will be described in more detail in subsequent versions of this document.

E. Internet Self-Response

The internet Self-Response operation will be described in more detail in subsequent versions of this document.

F. Census Questionnaire Assistance

The Census Questionnaire Assistance operation will be described in more detail in subsequent versions of this document.

G. Update Leave

The Update Leave operation will be described in more detail in subsequent versions of this document.

H. Update Enumerate

The Update Enumerate operation will be described in more detail in subsequent versions of this document.

I. Non-ID Processing

The Non-ID Processing operation will be described in more detail in subsequent versions of this document.

J. Nonresponse Followup

The Nonresponse Followup Operation will be described in more detail in subsequent versions of this document.

K. Group Quarters

The Group Quarters operation will be described in more detail in subsequent versions of this document.

L. Paper Data Capture

The Paper Data Capture operation will be described in more detail in subsequent versions of this document.

M. Response Processing

The Response Processing Operation will be described in more detail in subsequent versions of this document.

N. Redistricting Data Program

The Redistricting Data Program operation will be described in more detail in subsequent versions of this document. This program has a separate OMB clearance number. There is more detail about this program in Federal Register July 26, 2018, (Vol. 83, No. 144, pp. 35458-35460. FR Doc No. 2018-15972).

O. Data Products and Dissemination

The Data Products and Dissemination operation will be described in more detail in subsequent versions of this document.

P. Archiving

The Archiving operation will be described in more detail in subsequent versions of this document.

Q. Federally Affiliated Count Overseas

The Federally Affiliated Count Overseas operation will be described in more detail in subsequent versions of this document.

R. Island Areas Censuses

The Island Areas Censuses operation will be described in more detail in subsequent versions of this document.

S. Evaluations and Experiments

The Evaluations and Experiments operation will be described in more detail in subsequent versions of this document.

The Census Bureau is not currently planning a separate clearance for the Evaluations and Experiments program, as has been done in past censuses. For the 2020 Census, these evaluations and experiments will be described either as Nonsubstantive Changes to this clearance or within other related clearance documents.

Affected Public: Individuals or Households.

Frequency: Once every 10 years.

Respondent's Obligation: Mandatory.

Legal Authority: Title 13, United States Code, Section 141.

This information collection request may be viewed at www.reginfo.gov. Follow the instructions to view Department of Commerce collections currently under review by OMB.

Written comments and recommendations for the Address Canvassing phase of the proposed information collection, identified by Docket number OMB-2018-0004, may be submitted to the Federale-Rulemaking portal: Fs://www.regulations.gov within 30 days of publication of this notice. You may also submit comments and recommendations to 2020_Census_Comments@omb.eop.gov or fax to (202) 395-5806. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, WordPerfect, or Adobe PDF file formats only.

Sheleen Dumas,
Departmental Lead PRA Officer, Office of the Chief Information Officer.

[FR Doc. 2018-21386 Filed 10-1-18; 8:45 am]

BILLING CODE 3510-07-P